DEPARTMENT OF THE INTERIOR

National Park Service

[NPS-WASO-NRNHL-DTS#-33823; PPWOCRADI0, PCU00RP14.R50000]

National Register of Historic Places; Notification of Pending Nominations and Related Actions

AGENCY: National Park Service, Interior.

ACTION: Notice.

SUMMARY: The National Park Service is soliciting electronic comments on the significance of properties nominated before April 23, 2022, for listing or related actions in the National Register of Historic Places.

DATES: Comments should be submitted electronically by May 20, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before April 23, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ARKANSAS

Carroll County

Kenner Cemetery, 18141 AR 103 South, Osage, SG100007756

DISTRICT OF COLUMBIA

District of Columbia

Nixon-Mounsey House, The (1949-1976), 2915 University Terr. NW, Washington, SG100007758

GEORGIA

Chatham County

Savannah Beach Town Hall and Auditorium, 403 Butler Ave., Tybee Island, SG100007755

NEW YORK

Albany County

McKownville-Country Club Highlands Historic District, Western Ave., Waverly Pl., Norwood, Glenwood, Parkwood, and Elmwood Sts., Guilderland, SG100007747

Kings County

Boulevard Houses, 804-920 Ashford St., 357-363 Wortman, 785-893 Schenck, and 738-765 Stanley Aves., 2156-2202 Linden Blvd., Brooklyn, SG100007744

Fiorentino Plaza, 2155, 2165, 2181-2189, 2211, 2215, 2219-2221 Pitkin and 320,340 Miller Aves., Brooklyn, SG100007746

Oneida County

Rome Cemetery, 1500 Jervis Ave., Rome, SG100007745

OHIO

Cuyahoga County

Mount Auburn School, 10110 Mount Auburn Ave., Cleveland, SG100007757

Greene County

Antioch College Fine Arts Building, 405 Corry St., Yellow Springs, SG100007761

Lorain County

Robinson Building, 401-415 Broad St., Elyria, SG100007765

SOUTH CAROLINA

Abbeville County

Abbeville County Training School, (Rosenwald School Building Program in South Carolina, 1917-1932), 410 Branch St., Abbeville, MP100007749

Greenville County

Greer Mill, 300 Connecticut Ave., Greer, SG100007764

Horry County

Horry County Courthouse, 1201 3rd Ave., Conway, SG100007748

TEXAS

Travis County

Parque Zaragoza, 2608 Gonzales St., Austin, SG100007750

VIRGINIA

Covington Independent City

Rivermont School, 1011 North Rockbridge Ave., Covington, SG100007754

Gloucester County

Timberneck (Boundary Increase), Address Restricted, Hayes vicinity, BC100007752

Page County

Green Hill Cemetery, 202 East Main St., Luray, SG100007753

In the interest of preservation, a SHORTENED comment period has been requested for the following resource:

OREGON

Polk County

Sarah Helmick State Park, 10485 Helmick Rd., Monmouth vicinity, SG100007759

Comment period: 3 days

Additional documentation has been received for the following resource:

VIRGINIA

Gloucester County

Timberneck (Additional Documentation), Address Restricted, Hayes vicinity, AD79003041

Nomination submitted by Federal Preservation Officer:

The State Historic Preservation Officer reviewed the following nomination(s) and responded to the Federal Preservation Officer within 45 days of receipt of the nomination(s) and supports listing the properties in the National Register of Historic Places.

NORTH CAROLINA

Rowan County

Salisbury VA Hospital Historic District, (United States Third Generation Veterans Hospitals, 1946-1958 MPS), 1601 Brenner Ave., Salisbury, MP100007763

Authority: Section 60.13 of 36 CFR part 60.

Dated: April 26, 2022.
Sherry A. Frear,
Chief, National Register of Historic Places/National Historic Landmarks Program.

[FR Doc. 2022-09656 Filed 5-4-22; 8:45 am]

BILLING CODE 4312-52-P